DEPARTMENT OF DEFENSE

Office of the Secretary

Renewal of Department of Defense Federal Advisory Committees

AGENCY: DoD.

ACTION: Charter amendment of Federal Advisory Committee.

SUMMARY: Under the provisions of the Federal Advisory Committee Act of 1972, (5 U.S.C. Appendix), the Government in the Sunshine Act of 1976 (5 U.S.C. 552b), and 41 CFR 102-3.50(d), the Department of Defense gives notice that it is amending the charter for the Defense Intelligence Agency Advisory Board (hereafter referred to as “the Board”).

The Defense Intelligence Agency Advisory Board, pursuant to 41 CFR 102-3.50(d), is a discretionary Federal advisory committee established to provide the Secretary of Defense through the Under Secretary of Defense for Intelligence and the Director of the Defense Intelligence Agency advice on matters relating to DoD's intelligence enterprise.

The Board shall: (a) Review and evaluate progress on selected intelligence issues, programs and topics; (b) Advise on the effectiveness of intelligence sources and methods to aid the Department of Defense in establishing resource allocations among programs, consistent with national intelligence requirements; (c) Review, evaluate and recommend initiatives to improve support to the defense intelligence enterprise; and (d) Advise on the effectiveness of various methodologies and doctrines.

The Under Secretary of Defense for Intelligence may act upon the Board's advice and recommendations.

The Board shall be comprised of no more than fifteen members appointed by the Secretary of Defense who have distinguished backgrounds in national security policy, defense intelligence, geopolitical matters, academia or the private sector. All Board member appointments must be renewed by the Secretary of Defense on an annual basis.

The Secretary of Defense, based upon the recommendation of the Under Secretary of Defense for Intelligence and the Director of Defense Intelligence Agency, shall select the Chairperson. Board members appointed by the Secretary of Defense, who are not full-time or permanent part-time federal employees, shall be appointed as experts and consultants under the authority of 5 U.S.C. 3109 and shall serve as special government employee members. With the exception of travel and per diem for official travel, Board members shall serve without compensation. All Board members are appointed to provide advice on behalf of the government on the basis of their best judgment without representing any particular point of view and in a manner that is free from conflict of interest.

With DoD approval, the Board is authorized to establish subcommittees, as necessary and consistent with its mission. These subcommittees shall operate under the provisions of the Federal Advisory Committee Act of 1972, the Government in the Sunshine Act of 1976 (5 U.S.C. § 552b), and other governing Federal regulations.

Such subcommittees shall not work independently of the chartered Board, and shall report all their recommendations and advice to the Board for full deliberation and discussion. Subcommittees have no authority to make decisions on behalf of the chartered Board; nor can they report directly to the Department of Defense or any Federal officers or employees who are not Board members.

Subcommittee members, who are not Board members, shall be appointed in the same manner as the Board members. Such individuals, if not full-time or part-time government employees, shall be appointed to serve as experts and consultants under the authority of 5 U.S.C. 3109, and serve as special government employees, whose appointments must be renewed by the Secretary of Defense on an annual basis. With the exception of travel and per diem for official travel, subcommittee members shall serve without compensation.

FOR FURTHER INFORMATION CONTACT: Jim Freeman, Deputy Advisory Committee Management Officer for the Department of Defense, 703-692-5952.

SUPPLEMENTARY INFORMATION: The Board shall meet at the call of the Board's Designated Federal Officer, in consultation with the Board's Chairperson and the Director of the Defense Intelligence Agency. The estimated number of Board meetings is four per year.

In addition, the Designated Federal Officer is required to be in attendance at all Board and subcommittee meetings for the entire duration of each and every meeting; however, in the absence of the Designated Federal Officer, the Alternate Designated Federal Officer shall attend the entire duration of the Board or subcommittee meeting.

Pursuant to 41 CFR 102-3.105(j) and 102-3.140, the public or interested organizations may submit written statements to Defense Intelligence Agency Advisory Board's membership about the Board's mission and functions. Written statements may be submitted at any time or in response to the stated agenda of planned meeting of Defense Intelligence Agency Advisory Board.

All written statements shall be submitted to the Designated Federal Officer for the Defense Intelligence Agency Advisory Board, and this individual will ensure that the written statements are provided to the membership for their consideration. Contact information for the Defense Intelligence Agency Advisory Board Designated Federal Officer can be obtained from the GSA's FACA Database— https://www.fido.gov/facadatabase/public.asp.

The Designated Federal Officer, pursuant to 41 CFR 102-3.150, will announce planned meetings of the Defense Intelligence Agency Advisory Board. The Designated Federal Officer, at that time, may provide additional guidance on the submission of written statements that are in response to the stated agenda for the planned meeting in question.

Dated: April 10, 2012.
Aaron Siegel,
Alternate OSD Federal Register Liaison Officer, Department of Defense.

[FR Doc. 2012-8888 Filed 4-12-12; 8:45 am]

BILLING CODE 5001-06-P